DEPARTMENT OF DEFENSE

Office of the Secretary

[Docket ID DoD-2021-HA-0025]

Proposed Collection; Comment Request

AGENCY: The Office of the Assistant Secretary of Defense for Health Affairs, Department of Defense (DoD).

ACTION: Information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 21, 2021.

ADDRESSES: You may submit comments, identified by docket number and title, by any of the following methods:

Federal eRulemaking Portal: http://www.regulations.gov. Follow the instructions for submitting comments.

Mail: The Department of Defense (DoD) cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Health Agency (DHA), ATTN: Frank Bradt, 5109 Leesburg Pike, Skyline 6, Suite 701, Falls Church, VA 22041, or call at (202) 380-6107.

SUPPLEMENTARY INFORMATION:

Title; Associated Form; and OMB Number: Enterprise Blood Management System (EBMS): Enterprise Blood Management System—Donor (EBMS-D) and Enterprise Blood Management System—Transfusion (EBMS-T); ASBP Form 572; OMB Control Number 0720-0057.

Needs and Uses: EBMS is a family of related automated information systems (AIS) comprised of two separate and distinct commercial-off-the-shelf (COTS) software applications that provides the Military Health System (MHS) with a comprehensive enterprise wide Enterprise Blood Management System—Donor (EBMS-D) and a Enterprise Blood Management System—Transfusion (EBMS-T). EBMS-D employs two separate COTS software applications, Mediware Corporation's LifeTrak Donor™ and LifeTrak Lab & Distribution™. EBMS-D is a technology modernization effort intended to enhance the DoD Blood Program capabilities for Donor Centers through the seamless integration of blood products inventory management, transport, availability, and most importantly, blood and blood products traceability from collection to disposition within the electronic health record (EHR). EBMS-T employs two separate COTS software applications, Mediware Corporation's HCLL™ (Transfusion) and KnowledgeTrak™ (Learning Management). EBMS-T is an effort intended to enhance the DoD Blood Program capabilities for a seamless integration of blood banking and transfusion activities, products inventory management, transport, availability, and most importantly traceability from transfusion to disposition or destruction within the electronic health record (EHR).

EBMS has built-in safeguards to limit access and visibility of personal or sensitive information in accordance with the Privacy Act of 1974. The application will account for everyone that donates blood and receives a blood transfusion in the MHS—Active Duty, Reserves, National Guard, government civilian, contractors and volunteers assigned or borrowed—this also includes non-appropriated fund employees and foreign nationals.

Affected Public: Individuals and households.

Annual Burden Hours: 766.

Number of Respondents: 4,600.

Responses per Respondent: 1.

Annual Responses: 4,600.

Average Burden per Response: 10 minutes.

Frequency: On occasion.

Dated: April 15, 2021.
Aaron T. Siegel,
Alternate OSD Federal Register Liaison Officer, Department of Defense.

[FR Doc. 2021-08226 Filed 4-20-21; 8:45 am]

BILLING CODE 5001-06-P